FEDERAL ELECTION COMMISSION

Sunshine Act Meeting

AGENCY: Federal Election Commission.

DATE & TIME: Tuesday, June 6, 2000, at 10 a.m.

PLACE: 999 E Street, N.W., Washington, D.C.

STATUS: This meeting will be closed to the public.

ITEMS TO BE DISCUSSED:

Compliance matters pursuant to 2 U.S.C. § 437g.

Audits conducted pursuant to 2 U.S.C. § 437g, § 438(b), and Title 26, U.S.C.

Matters concerning participation in civil actions or proceedings or arbitration.

Internal personnel rules and procedures or matters affecting a particular employee.

DATE & TIME: Thursday, June 8, 2000, at 10 a.m.

PLACE: 999 E Street, N.W. Washington, D.C. (ninth floor).

STATUS: This meeting will be open to the public.

ITEMS TO BE DISCUSSED: Correction and Approval of Minutes.

Draft Advisory Opinion 1999-38-Ken Calvert for Congress Committee by counsel. Nicholas C. Vasels.

Draft Advisory Opinion 2000-08-Philip D. Harvey.

Final Rules and Explanation and Justification on Mandatory Electronic Filing: (11 CFR§ 104.18).

Administrative Matters.

PERSON TO CONTACT FOR INFORMATION: Mr. Ron Harris, Press Officer, Telephone: (202) 694-12220.

Mary W. Dove,
Acting Secretary.

[FR Doc. 00-13889 Filed 5-30-00; 3:15 pm]

BILLING CODE 6715-01-M